DEPARTMENT OF ENERGY

Federal Energy Regulatory Commission

[Docket No. RP01-92-000]

Norteno Pipeline Company; Notice of Compliance Filing

November 21, 2000.

Take notice that on November f9, 2000, Norteno Pipeline Company, (Norteno) tendered for filing its' Statement of Compliance with the Commission in response to Order No. 587-L informing the Commission that Norteno's currently effective gas tariff contains provisions permitting imbalance netting and trading by shippers.

Norteno states that copies of this filing have been sent to Norteno's shippers and interested state regulatory commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before November 28, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-298-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30199 Filed 11-27-00; 8:45 am]

BILLING CODE 6717-01-M